DEPARTMENT OF COMMERCE

International Trade Administration

North American Free Trade Agreement (NAFTA), Article 1904 Binational Panel Reviews: Notice of Completion of Panel Review

AGENCY: NAFTA Secretariat, United States Section, International Trade Administration, Department of Commerce.

ACTION: Notice of Completion of Panel Review of the Determination on Remand made by the United States International Trade Commission in the matter of Steel Concrete Reinforcing Bar from Mexico (Secretariat File No. USA-MEX-2014-1904-02).

SUMMARY: Pursuant to the Final Panel Decision of the Binational Panel dated February 2, 2017, affirming the Determination on Remand described above, the Panel Review was completed on March 16, 2017.

FOR FURTHER INFORMATION CONTACT: Paul E. Morris, United States Secretary, NAFTA Secretariat, Room 2061, 1401 Constitution Avenue NW., Washington, DC 20230, (202) 482-5438.

SUPPLEMENTARY INFORMATION: On February 2, 2017, the Binational Panel issued a Final Panel Decision affirming the U.S. International Trade Commission's Determination on Remand in the matter of Steel Concrete Reinforcing Bar from Mexico. As a result, the NAFTA Secretariat was instructed to issue a Notice of Completion of Panel Review on the 31st day following the issuance of the Notice of Final Panel Action, if no request for an Extraordinary Challenge Committee was filed. No such request was filed. Therefore, on the basis of the Final Panel Decision and Rule 80 of the NAFTA Rules of Procedure for Article 1904 Binational Panel Reviews, the Panel Review was completed and the panelists were discharged from their duties effective March 16, 2017.

Dated: March 16, 2017.
Paul E. Morris,
United States Secretary.

[FR Doc. 2017-05630 Filed 3-21-17; 8:45 am]

BILLING CODE 3510-GT-P